DEPARTMENT OF TRANSPORTATION

Federal Highway Administration

Notice of Final Federal Agency Actions on Avenida Rio Salado/Broadway Road

AGENCY: Federal Highway Administration (FHWA), DOT.

ACTION: Notice of limitation on claims for judicial review of actions by FHWA and other Federal Agencies.

SUMMARY: This notice announces actions taken by the FHWA and other Federal agencies that are final within the meaning of 23 U.S.C. 139(l)(1). The actions relate to the extension and reconstruction of Broadway Road between 67th Avenue and 7th Street within the city of Phoenix, Maricopa County, Arizona. Those actions grant licenses, permits, and approvals for the project.

DATES: By this notice, the FHWA is advising the public of final agency actions subject to 23 U.S.C. 139(l)(1). A claim seeking judicial review of the Federal agency actions on the highway project will be barred unless the claim is filed on or before October 30, 2012. If the Federal law that authorizes judicial review of a claim provides a time period of less than 180 days for filing such claim, then that shorter time period still applies.

FOR FURTHER INFORMATION CONTACT: Mr. Tom Deitering, Area Engineer, Federal Highway Administration, 4000 N. Central Avenue, Suite 1500, Phoenix, Arizona 85012-3500; telephone: (602) 379-3646, fax: (602) 382-8998, email: Thomas.Deitering@dot.gov.

The FHWA Arizona Division Office's normal business hours are 8 a.m. to 5 p.m. (Mountain Standard Time).

You may also contact: Mr. Ken Davis, Senior Engineering Manager, Federal Highway Administration, 4000 N. Central Avenue, Suite 1500, Phoenix, Arizona 85012-3500; telephone: (602) 379-3646, fax: (602) 382-8998, email: Ken.Davis@dot.gov.

SUPPLEMENTARY INFORMATION: Notice is hereby given that the FHWA and other Federal agencies have taken final agency actions by issuing licenses, permits, and approvals for the following project in the State of Arizona: Avenida Rio Salado/Broadway Road. The improvements include extending Broadway Road by constructing a new 6-lane roadway between 67th and 43rd avenues, widening the existing Broadway Road to 6-lanes between 43rd and 17th avenues, and improving the Broadway Road intersections at 15th, 7th, and Central avenues and 7th Street. The project will require approximately 102.63 acres of additional right of way and would not result in residential or commercial displacements. Some properties will require reconfiguration to remain functional under the changed roadway conditions.

The actions by the Federal agencies, and the laws under which such actions were taken, are described in the Avenida Rio Salado/Broadway Road Final Environmental Assessment and Section 4(f) Evaluation (Final EA) for the project, approved on January 5, 2012, in the FHWA Finding of No Significant Impact (FONSI) issued on January 5, 2012, and in other documents in the FHWA administrative record. The FONSI, Final EA, and other documents in the FHWA administrative record file are available by contacting the FHWA or the Arizona Department of Transportation at the addresses provided above. The FONSI and Final EA including the Public Hearing Summary are available online at: http://avenidariosalado.com/environmental_assessment.php. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661- 667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Flood Disaster Protection Act [42 U.S.C. 4001-4128].

8. Water: Clean Water Act 33 U.S.C. 1251-1387.

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: April 25, 2012.
Karla S. Petty,
Division Administrator, Phoenix, Arizona.

[FR Doc. 2012-10574 Filed 5-2-12; 8:45 am]

BILLING CODE P